DEPARTMENT OF TRANSPORTATION

Federal Aviation Administration

14 CFR Part 97

[Docket No. 30783; Amdt. No. 3426]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 26, 2011. The compliance date for each SIAP, associated Takeoff Minimums, and ODP is specified in the amendatory provisions.

The incorporation by reference of certain publications listed in the regulations is approved by the Director of the Federal Register as of May 26, 2011.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 13, 2011.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 30 JUN 2011

Seward, AK, Seward, RNAV (GPS)-A, Orig

Seward, AK, Seward, SEWAR ONE Graphic DP

Seward, AK, Seward, Takeoff Minimums & Obstacle DP, Orig

Valdez, AK, Valdez Pioneer Field, LDA/DME-H, Orig-A

Newport, AR, Newport Muni, VOR/DME RWY 18, Amdt 4

Los Angeles, CA, Los Angeles Intl, ILS OR LOC RWY 6L, Amdt 12A

Los Angeles, CA, Los Angeles Intl, ILS OR LOC RWY 6R, Amdt 17A

Los Angeles, CA, Los Angeles Intl, ILS OR LOC RWY 7L, Amdt 7A

Los Angeles, CA, Los Angeles Intl, ILS OR LOC RWY 7R, Amdt 6B

Los Angeles, CA, Los Angeles Intl, ILS OR LOC RWY 24L, Amdt 26

Los Angeles, CA, Los Angeles Intl, ILS OR LOC RWY 25L, ILS RWY 25L (CAT II), ILS RWY 25L (CAT III), Amdt 12

Los Angeles, CA, Los Angeles Intl, ILS OR LOC RWY 25R, ILS RWY 25R (SA CAT I), ILS RWY 25R (SA CAT II), Amdt 17

Los Angeles, CA, Los Angeles Intl, RNAV (GPS) RWY 25R, Amdt 2

Los Angeles, CA, Los Angeles Intl, RNAV (GPS) Y RWY 24L, Amdt 2

Los Angeles, CA, Los Angeles Intl, RNAV (GPS) Y RWY 25L, Amdt 3

Los Angeles, CA, Los Angeles Intl, RNAV (RNP) Z RWY 24L, Amdt 1

Los Angeles, CA, Los Angeles Intl, RNAV (RNP) Z RWY 25L, Amdt 1

Los Angeles, CA, Los Angeles Intl, RNAV (RNP) Z RWY 25R, Orig, CANCELLED

Jekyll Island, GA, Jekyll Island, RNAV (GPS) RWY 18, Orig

Jekyll Island, GA, Jekyll Island, RNAV (GPS) RWY 36, Amdt 1

Kahului, HI, Kahului, RNAV (GPS) Y RWY 2, Amdt 1

Kahului, HI, Kahului, RNAV (RNP) Z RWY 2, Orig

Sheldon, IA, Sheldon Muni, Takeoff Minimums & Obstacle DP, Orig

Evansville, IN, Evansville Rgnl, RNAV (GPS) RWY 18, Orig

Evansville, IN, Evansville Rgnl, RNAV (GPS) RWY 36, Orig

Sparta, MI, Paul C. Miller-Sparta, VOR-A, Amdt 4

Two Harbors, MN, Richard B Helgeson, Takeoff Minimums & Obstacle DP, Orig

Springfield, MO, Springfield-Branson National, ILS OR LOC RWY 2, Amdt 18

Springfield, MO, Springfield-Branson National, RNAV (GPS) RWY 14, Amdt 2

St. Louis, MO, Lambert-St Louis Intl, RNAV (GPS) RWY 12R, Amdt 1

St. Louis, MO, Lambert-St Louis Intl, RNAV (GPS) RWY 24, Amdt 1

St. Louis, MO, Lambert-St Louis Intl, RNAV (GPS) RWY 30L, Amdt 1

Bozeman, MT, Gallatin Field, ILS OR LOC RWY 12, Amdt 8

Helena, MT, Helena Rgnl, DIVIDE ONE Graphic DP

Helena, MT, Helena Rgnl, LOC/DME BC-C, Amdt 5

Helena, MT, Helena Rgnl, Takeoff Minimums & Obstacle DP, Amdt 10

Morganton, NC, Foothills Rgnl, LOC RWY 3, Amdt 1

Morganton, NC, Foothills Rgnl, RNAV (GPS) RWY 3, Amdt 1

Morganton, NC, Foothills Rgnl, RNAV (GPS) RWY 21, Amdt 1

Morganton, NC, Foothills Rgnl, Takeoff Minimums and Obstacle DP, Amdt 2

Wahpeton, ND, Harry Stern, Takeoff Minimums & Obstacle DP, Amdt 1

Millville, NJ, Millville Muni, RNAV (GPS) RWY 14, Orig-B

Millville, NJ, Millville Muni, RNAV (GPS) RWY 32, Orig-A

Morristown, NJ, Morristown Muni, ILS OR LOC RWY 23, Amdt 10

Morristown, NJ, Morristown Muni, NDB RWY 5, Amdt 11A, CANCELLED

Morristown, NJ, Morristown Muni, NDB OR GPS RWY 23, Amdt 6C, CANCELLED

Morristown, NJ, Morristown Muni, RNAV (GPS) RWY 5, Amdt 2

Morristown, NJ, Morristown Muni, RNAV (GPS) RWY 23, Orig

Ely, NV, Ely Airport-Yelland Field, ELY ONE Graphic DP

Ely, NV, Ely Airport-Yelland Field, Takeoff Minimums and Obstacle DP, Amdt 2

Watertown, NY, Watertown Intl, RNAV (GPS) RWY 7, Amdt 2A

Cincinnati, OH, Cincinnati-Blue Ash, VOR RWY 24, Amdt 6, CANCELLED

Norman, OK, University of Oklahoma Westheimer, ILS OR LOC RWY 17, Amdt 1

Norman, OK, University of Oklahoma Westheimer, RNAV (GPS) RWY 17, Amdt 1

Perry, OK, Perry Muni, GPS RWY 17, Orig-B, CANCELLED

Perry, OK, Perry Muni, RNAV (GPS) RWY 17, Orig

Stigler, OK, Stigler Rgnl, Takeoff Minimums and Obstacle DP, Orig

Tillamook, OR, Tillamook, FETUJ TWO Graphic DP

Tillamook, OR, Tillamook, Takeoff Minimums and Obstacle DP, Amdt 1

Johnstown, PA, John Murtha Johnstown-Cambria Co., TACAN RWY 15, Orig, CANCELLED

Johnstown, PA, John Murtha Johnstown-Cambria Co., TACAN RWY 23, Orig, CANCELLED

Johnstown, PA, John Murtha Johnstown-Cambria Co., VOR/DME OR TACAN RWY 15, Amdt 6

Johnstown, PA, John Murtha Johnstown-Cambria Co., VOR/DME OR TACAN RWY 23, Amdt 3

Palmyra, PA, Reigle Field, RNAV (GPS)-A, Orig

Palmyra, PA, Reigle Field, Takeoff Minimums and Obstacle DP, Orig

Philipsburg, PA, Mid-State, ILS OR LOC RWY 16, Amdt 6B, CANCELLED

Philipsburg, PA, Mid-State, NDB RWY 16, Amdt 16B, CANCELLED

Philipsburg, PA, Mid-State, RNAV (GPS) RWY 16, Orig

Philipsburg, PA, Mid-State, VOR RWY 24, Amdt 16

Madison, SD, Madison Muni, Takeoff Minimums and Obstacle DP, Orig

Houston, TX, William P Hobby, ILS OR LOC RWY 30L, Amdt 6

Houston, TX, William P Hobby, RNAV (GPS) RWY 12R, Amdt 1A

Houston, TX, William P Hobby, RNAV (GPS) RWY 30L, Amdt 2

Houston, TX, William P Hobby, VOR/DME RWY 30L, Amdt 18

Moneta, VA, Smith Mountain Lake, RNAV (GPS) RWY 23, Orig

Waynesboro, VA, Eagle's Nest, Takeoff Minimums and Obstacle DP, Orig

Milwaukee, WI, Lawrence J. Timmerman, LOC RWY 15L, Amdt 6

Milwaukee, WI, Lawrence J. Timmerman, RNAV (GPS) RWY 15L, Orig

Milwaukee, WI, Lawrence J. Timmerman, RNAV (GPS) RWY 22R, Orig

Milwaukee, WI, Lawrence J. Timmerman, VOR RWY 4L, Amdt 9

Milwaukee, WI, Lawrence J. Timmerman, VOR RWY 15L, Amdt 14

Oconto, WI, J Douglas Bake Memorial, Takeoff Minimums and Obstacle DP, Orig

Huntington, WV, Tri-State/Milton J. Ferguson Field, ILS OR LOC RWY 30, Amdt 6

Huntington, WV, Tri-State/Milton J. Ferguson Field, RNAV (GPS) RWY 30, Orig

[FR Doc. 2011-12730 Filed 5-25-11; 8:45 am]

BILLING CODE 4910-13-P